DEPARTMENT OF ENERGY

Federal Energy Regulatory Commission

[Docket No. EF01-4011-000, et al.]

Southwestern Power Administration, et al.; Electric Rate and Corporate Regulation Filings

April 9, 2001.

Take notice that the following filings have been made with the Commission:

1. Southwestern Power Administration

[Docket No. EF01-4011-000]

Take notice that on April 4, 2001, the Secretary, U.S. Department of Energy, tendered for filing with the Federal Energy Regulatory Commission (FERC) for confirmation and approval on a final basis, pursuant to the authority vested in the FERC by Delegation Order No. 0204-172, November 11, 1999, the following Southwestern Power Administration (Southwestern) Integrated System rate schedules:

Rate Schedule P-98D, Wholesale Rates for Hydro Peaking Power

Rate Schedule NFTS-98D, Wholesale Non-Federal Transmission/Interconnection Service

The Integrated System rate schedules were confirmed and approved on an interim basis by the Deputy Secretary in Rate Order No. SWPA-44 for the period April 1, 2001, through September 30, 2001, and have been submitted to the FERC for confirmation and approval on a final basis for the same period.

Southwestern has clarified the Energy Imbalance Service provision to specify the hours and circumstances in which energy within the authorized bandwidth is to be returned to the providing party, and has revised the Power Factor Penalty to charge on an hourly basis to more accurately reflect the actual taking of reactive kilovolt amperes (VARS) from the system of Southwestern. This penalty serves as an incentive to utilities to provide their own voltage support. In addition, Southwestern is adding a new provision for an Interconnection Facilities Service Charge. This charge will be applicable to interconnection requests for which Southwestern does not otherwise receive benefits or compensation for the use of Federal facilities. At this time, Southwestern does not anticipate any substantive change in revenues as a result of these changes which would impact revenue requirements. Southwestern does not forecast for penalties and currently has no contractual arrangements to which the Interconnection Facilities Service Charge would be applied.

Comment date: April 30, 2001, in accordance with Standard Paragraph E at the end of this notice.

2. Kentucky Pioneer Energy L.L.C.

[Docket No. EG01-132-000]

Take notice that on April 6, 2001, Kentucky Pioneer Energy L.L.C. (KPE) tendered for filing with the Federal Energy Regulatory Commission, (Commission) an amendment to its Application for Determination of Exempt Wholesale Generator Status that was filed with the Commission on February 1, 2001, pursuant to section 32(a)(1) of the Public Utility Holding Company Act of 1935.

Comment date: April 30, 2001, in accordance with Standard Paragraph E at the end of this notice. The Commission will limit its consideration of comments to those that concern the adequacy or accuracy of the application.

3. Frederickson Power L.P.

[Docket No. EG01-181-000]

Take notice that on April 4, 2001, Frederickson Power L.P. filed a Notification of Change in Facts and Application for Determination of Status as an Exempt Wholesale Generator pursuant to section 32 of the Public Utility Holding Company Act of 1935, 15 U.S.C. 79z-5a, and Part 365 of the regulations of the Federal Energy Regulatory Commission.

Frederickson Power L.P. is a limited partnership organized under the laws of the State of Washington. The general partner of Frederickson Power L.P. is Frederickson Power Management Inc. The two limited partners of Frederickson Power L.P. are Westcoast Energy Enterprises (U.S.) Inc. and EPDC, Inc. Frederickson Power L.P. owns a partially constructed natural gas-fired combined cycle combustion turbine electric generation facility located in the Frederickson Industrial Area in Pierce County near Tacoma, Washington (the “Frederickson Project”). When complete, major plant equipment for the Frederickson Project will consist of one combustion turbine-generator, one heat recovery steam generator with supplemental firing capability, and one steam turbine-generator, with a nominal net plant capacity of 249.5 MW.

Comment date: April 30, 2001, in accordance with Standard Paragraph E at the end of this notice. The Commission will limit its consideration of comments to those that concern the adequacy or accuracy of the application.

4. Tanir Bavi Power Company Private Ltd.

[Docket No. EG01-182-000]

Take notice that on April 4, 2001, Tanir Bavi Power Company Private Ltd. (Tanir Bavi) with its principal office at Skip House, 25/1, Museum Road, Bangalore, 56 0025 filed with the Federal Energy Regulatory Commission an application for determination of exempt wholesale generator status pursuant to Part 365 of the Commission's regulations.

Tanir Bavi is a company organized under the laws of India. Tanir Bavi will be engaged, directly or indirectly through an affiliate as defined in section 2(a)(11)(B) of the Public Utility Holding Company Act of 1935, exclusively in owning, or both owning and operating an electric generating facility consisting of a 220 MW Power Plant in Mangalore, State of Karnataka in India; selling electric energy at wholesale and engaging in project development activities with respect thereto.

Comment date: April 30, 2001, in accordance with Standard Paragraph E at the end of this notice. The Commission will limit its consideration of comments to those that address the adequacy or accuracy of the application.

5. Southern California Edison Company

[Docket Nos. EL00-95-025 and EL00-98-024]

Take notice that on April 4, 2001, Southern California Edison Company (SCE) tendered for filing with the Federal Energy Regulatory Commission (Commission) proposed revisions to its Transmission Owner Tariff (TO Tariff), FERC Electric Tariff, First Revised Original Volume No. 6. This filing was made in compliance with the Commission's December 15, 2000 Order in this proceeding, San Diego Gas & Electric Co., et al., 93 FERC ¶ 61,294 (2000).

These revisions are intended to facilitate implementation by the California Independent System Operator Corporation (ISO) of its revised New Generation Facility Interconnection Procedures.

SCE requests that these TO Tariff revisions become effective on June 1, 2001.

Copies of this filing were served upon the Public Utilities Commission of the State of California, the California Independent System Operator, the California Electricity Oversight Board, Pacific Gas and Electric Company, and San Diego Gas & Electric Company.

Comment date: April 25, 2001, in accordance with Standard Paragraph E at the end of this notice.

6. San Diego Gas & Electric Company

[Docket Nos. EL00-95-022 and EL00-98-021]

Take notice that on April 2, 2001, San Diego Gas & Electric Company (SDG&E) tendered for filing with the Federal Energy Regulatory Commission (Commission), proposed revisions to its Transmission Owner Tariff (TO Tariff), FERC Electric Tariff, First Revised Original Volume 6. These revisions are intended to facilitate implementation by the California Independent System Operator Corporation (ISO) of its revised New Generation Facility Interconnection Procedures. This filing was made in compliance with the Commission's December 15, 2000 Order in this proceeding, San Diego Gas & Electric Co., et al., 93 FERC ¶ 61,294 (2000).

SDG&E requests that these TO Tariff revisions become effective June 1, 2001.

Copies of this filing were served upon the California Public Utilities Commission, the California Independent System Operator Corporation, California Energy Commission, California Electric Oversight Board, Southern California Edison, pacific Gas and Electric Company, and the City of Vernon, California.

Comment date: April 23, 2001, in accordance with Standard Paragraph E at the end of this notice.

7. Pacific Gas and Electric Company

[Docket Nos. EL00-95-024 and EL00-98-023]

Take notice that on April 2, 2001, Pacific Gas and Electric Company (PG&E) tendered for filing with the Federal Energy Regulatory Commission (Commission) proposed revisions to its Transmission Owner Tariff (TO Tariff), FERC Electric Tariff, Sixth Revised Volume No. 5. This filing was made in compliance with the Commission's December 15, 2000 Order in this proceeding, San Diego Gas & Electric Co., et al., 93 FERC ¶ 61,294 (2000).

These revisions are intended to facilitate implementation by the California Independent System Operator Corporation (ISO) of its revised New Facility Interconnection Procedures.

PG&E requests that these TO Tariff revisions become effective on June 1, 2001.

Copies of this filing were served upon the Public Utilities Commission of the State of California, the California Independent System Operator Corporation, and all interested parties.

Comment date: April 23, 2001, in accordance with Standard Paragraph E at the end of this notice.

8. California Independent System Operator Corporation

[Docket Nos. EL00-95-023 and EL00-98-022]

Take notice that on April 2, 2001, the California Independent System Operator Corporation (ISO) tendered for filing Amendment No. 39 to the ISO Tariff. The ISO states that Amendment No. 39 is intended to modify the ISO Tariff's provisions with respect to new generator interconnections. This filing was made in compliance with the Commission's December 15, 2000 Order in this proceeding, San Diego Gas & Electric Co., et al., 93 FERC ¶ 61,294 (2000).

The ISO requests that the filing be made effective on June 1, 2001.

The ISO states that this filing has been served on the California Public Utilities Commission and all California ISO Scheduling Coordinators.

Comment date: April 23, 2001, in accordance with Standard Paragraph E at the end of this notice.

9. Entergy Power Inc., Entergy Arkansas, Inc., Entergy New Orleans, Inc., Entergy Louisiana, Inc., Entergy Mississippi, Inc., Entergy Gulf States, Inc., Entergy Power Marketing Corp., Entergy Nuclear Generation Co., Entergy Nuclear Fitzpatrick, LLC., and Entergy Nuclear Indian Point 3, LLC.

[Docket Nos. ER91-569-012, ER91-569-013, ER91-569-014, ER91-569-015, ER91-569-016, ER91-569-017, ER95-1615-023, ER99-1004-004, ER00-2783-003, and ER00-2740-003]

Take notice that on April 3, 2001, Entergy Corp. on behalf of the above noted subsidiaries, filed a notice with the Federal Energy Regulatory Commission that they will no longer treat the Florida Power & Light Company as an affiliate for purposes of their market rate tariffs. This action reflects the April 2, 2001, announcement by Entergy Corp. and FPL Group that they were terminating their merger agreement.

Comment date: April 24, 2001, in accordance with Standard Paragraph E at the end of this notice.

10. Florida Power & Light Company, FPL Energy Power Marketing, Inc., FPL Energy Services, Inc., ESI Vansycle Partners, L.P., FPL Energy AVEC LLC, FPL Energy Maine Hydro LLC, FPL Energy Mason LLC, FPL Energy MH50, L.P., FPL Energy Wisconsin Wind, LLC, FPL Energy Wyman LLC, FPL Energy Wyman IV LLC, Doswell Limited Partnership and Hawkeye Power Partners, LLC

[Docket Nos. ER97-3359-004, ER98-3566-007, ER99-2337-005, ER98-2494-003, ER98-3565-004, ER98-3511-004, ER98-3562-004, ER99-2917-002, ER00-56-002, ER98-3563-004, ER98-3564-004, ER00-2391-002, and ER98-2067-002]

Take notice that on April 3, 2001, FPL Group on behalf of the above noted subsidiaries, filed a notice with the Federal Energy Regulatory Commission that they will no longer treat the Entergy Operating Companies as affiliates for purposes of their market rate tariffs. This action reflects the April 2, 2001, announcement by FPL Group and Entergy Corp. that they were terminating their merger agreement.

Comment date: April 30, 2001, in accordance with Standard Paragraph E at the end of this notice.

11. Mississippi Power Company

[Docket No. ER01-1284-001]

Take notice that on April 2, 2001, Mississippi Power Company and Southern Company Services, Inc., its agent, supplemented its February 20, 2001, filing of a Service Agreement with South Mississippi Electric Power Association for twelve (12) Delivery Points, pursuant to the Southern Companies' Electric Tariff, FERC Electric Tariff, First Revised Volume No. 4. The agreement will permit Mississippi Power to provide wholesale electric service to South Mississippi Electric Power Association at the new service delivery points. The supplemental filing includes a Redacted Transaction Schedule to the Service Agreement.

Copies of the filing were served upon South Mississippi Electric Power Association, the Mississippi Public Service Commission, and the Mississippi Public Utilities Staff.

Comment date: April 23, 2001, in accordance with Standard Paragraph E at the end of this notice.

12. Mississippi Power Company

[ER01-1405-001]

Take notice that on April 2, 2001, Mississippi Power Company and Southern Company Services, Inc., its agent, supplemented its March 6, 2001, filing of a Service Agreement with South Mississippi Electric Power Association for the Wellman Delivery Point, pursuant to the Southern Companies' Electric Tariff, FERC Electric Tariff, First Revised Volume No. 4. The agreement will permit Mississippi Power to continue to provide wholesale electric service to South Mississippi Electric Power Association at the Wellman Delivery Point. The supplemental filing includes a Redacted Transaction Schedule to the Service Agreement.

Copies of the filing were served upon South Mississippi Electric Power Association, the Mississippi Public Service Commission, and the Mississippi Public Utilities Staff.

Comment date: April 23, 2001, in accordance with Standard Paragraph E at the end of this notice.

Standard Paragraph

E. Any person desiring to be heard or to protest such filing should file a motion to intervene or protest with the Federal Energy Regulatory Commission, 888 First Street, N.E., Washington, D.C. 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of these filings are on file with the Commission and are available for public inspection. This filing may also be viewed on the Internet at http://www.ferc.fed.us/online/rims.htm (call 202-208-2222 for assistance). Comments, protests, and interventions may be filed electronically via the internet in lieu of paper. See, 18 CFR 385.2001(a)(1)(iii) and the instructions on the Commission's web site at http://www.ferc.fed.us/efi/doorbell.htm.

David P. Boergers,
Secretary.

[FR Doc. 01-9296 Filed 4-13-01; 8:45 am]

BILLING CODE 6717-01-P